INTERNATIONAL TRADE COMMISSION

[Investigation Nos. 731-TA-313-314, 317, and 379 (Fifth Review)]

Brass Sheet and Strip From France, Germany, Italy, and Japan

Determinations

On the basis of the record ¹ developed in the subject five-year reviews, the United States International Trade Commission (“Commission”) determines, pursuant to the Tariff Act of 1930 (“the Act”), that revocation of the antidumping duty orders on brass sheet and strip from France, Germany, Italy, and Japan would be likely to lead to continuation or recurrence of material injury to an industry in the United States within a reasonably foreseeable time.

¹ The record is defined in § 207.2(f) of the Commission's Rules of Practice and Procedure (19 CFR 207.2(f)).

Background

The Commission instituted these reviews on September 1, 2022 (87 FR 53785) and determined on December 6, 2022 that it would conduct expedited reviews (88 FR 10380).

The Commission made these determinations pursuant to section 751(c) of the Act (19 U.S.C. 1675(c)). It completed and filed its determinations in these reviews on March 24, 2023. The views of the Commission are contained in USITC Publication 5414 (March 2023), entitled Brass Sheet and Strip from France, Germany, Italy, and Japan: Investigation Nos. 731-TA-313-314, 317, and 379 (Fifth Review).

By order of the Commission.
Issued: March 24, 2023.
Lisa Barton,
Secretary to the Commission.

[FR Doc. 2023-06535 Filed 3-28-23; 8:45 am]

BILLING CODE 7020-02-P